DEPARTMENT OF COMMERCE

International Trade Administration

[A-570-806, A-351-806]

Silicon Metal from the People's Republic of China and Brazil: Final Results of the Expedited Reviews of the Antidumping Duty Orders

AGENCY: Import Administration, International Trade Administration, Department of Commerce.

SUMMARY: On January 3, 2006, the Department of Commerce (“the Department”) initiated sunset reviews of the antidumping duty orders on Silicon Metal from the People's Republic of China (“PRC”) and Brazil, pursuant to section 751(c) of the Tariff Act of 1930, as amended, (“the Act”). See Initiation of Five-year (“Sunset”) Reviews, 71 FR 91 (January 3, 2006) (“Initiation Notice”). On the basis of the notice of intent to participate and adequate substantive responses filed on behalf of the domestic interested parties, and no responses from respondent interested parties, the Department conducted expedited sunset reviews. As a result of these sunset reviews, the Department finds that revocation of the antidumping duty orders would likely lead to continuation or recurrence of dumping at the levels listed below in the section entitled “Final Results of Reviews.”

EFFECTIVE DATE: May 4, 2006.

FOR FURTHER INFORMATION CONTACT: James Nunno, AD/CVD Operations, Import Administration, International Trade Administration, U.S. Department of Commerce, 14th Street and Constitution Avenue, NW., Washington, DC, 20230; telephone: (202) 482-0783.

SUPPLEMENTARY INFORMATION:

Background

The Department published an antidumping duty order on silicon metal from the PRC on June 10, 1991, and from Brazil on July 31, 1991. See Antidumping Duty Order: Silicon Metal from the People's Republic of China, 56 FR 26649; see also Antidumping Duty Order: Silicon Metal from Brazil, 56 FR 36135. On January 3, 2006, the Department initiated sunset reviews of the antidumping duty orders on Silicon Metal from the PRC and Brazil pursuant to section 751(c) of the Act. See Initiation Notice. The Department received a notice of intent to participate from a domestic interested party, Globe Metallurgical Inc. (“Globe”), within the deadline specified in section 351.218(d)(1)(i) of the Department's regulations. Globe claimed interested party status pursuant to section 771(9)(C) of the Act as a U.S. producer of the domestic like product. We received a submission from the domestic interested party within the 30-day deadline specified in section 351.218(d)(3)(i) of the Department's regulations. However, we did not receive submissions from any respondent interested parties. As a result, pursuant to section 751(c)(3)(B) of the Act and section 351.218(e)(1)(ii)(C)(2) of the Department's regulations, the Department conducted expedited sunset reviews of these orders.

Scope of the Orders

PRC

The merchandise covered by this order is silicon metal containing at least 96.00 percent but less than 99.99 percent silicon by weight. Also covered by this antidumping order is silicon metal containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (HTSUS) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Brazil

The merchandise covered by this order is silicon metal containing at least 96.00 percent but less than 99.99 percent silicon by weight. Also covered by this antidumping order is silicon metal containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (HTSUS) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Scope Clarifications

PRC

There has been one scope clarification in this proceeding. See Scope Rulings, 58 FR 27542 (May 10, 1993). In a response to a request by domestic interested parties for clarification of the scope of the antidumping duty order, the Department determined that silicon metal containing between 89.00 percent and 99.00 percent silicon by weight, but which contains a higher aluminum content than the silicon metal containing at least 96.00 percent, but less than 99.99 percent silicon by weight, is the same class or kind of merchandise as the silicon metal described in the original order. Therefore, such material is within the scope of the order on silicon metal from the PRC.

Analysis of Comments Received

All issues raised in these cases are addressed in the “Issues and Decision Memorandum” from Stephen J. Claeys, Deputy Assistant Secretary for Import Administration, to David M. Spooner, Assistant Secretary for Import Administration, dated April 27, 2006 (“Issues and Decision Memorandum”), which is hereby adopted by this notice. The issues discussed in the Issues and Decision Memorandum include the likelihood of continuation or recurrence of dumping and the magnitude of the margin likely to prevail if the orders were revoked. Parties can find a complete discussion of all issues raised in these sunset reviews and the corresponding recommendations in this public memorandum, which is on file in room B-099 of the main Department building.

In addition, a complete version of the Issues and Decision Memorandum can be accessed directly on our Web site at http://ia.ita.doc.gov. The paper copy and electronic version of the Decision Memorandum are identical in content.

Final Results of Reviews

We determine that revocation of the antidumping duty orders on Silicon Metal from the PRC and Brazil would likely lead to continuation or recurrence of dumping at the following percentage weighted-average margins:

Manufacturers/Exporters/Producers | Weighted-Average Margin (Percent)
PRC
PRC-wide Rate | 139.49
Brazil¹
Camargo Correa Metais, S.A. (“CCM”) | 93.20
Companhia Brasileira Carbureto de Calcio (“CBCC”) | Revoked
RIMA Eletrometalurgica S.A. (“RIMA”) | Revoked
All Others | 91.06
¹We will notify the ITC that Companhia Brasileira Carbureto de Calcio (“CBCC”) and RIMA Eletrometalurgica S.A. (“RIMA”) are no longer subject to the order. See Policies Regarding the Conduct of Five-Year (“Sunset”) Reviews of Antidumping and Countervailing Duty Orders; Policy Bulletin, 63 FR 18871 (April 16, 1998); see also Silicon Metal From Brazil: Final Results of Antidumping Duty Administrative Review and Revocation of Order in Part, 68 FR 57670 (October 6, 2003) (order revoked as to CBCC) and Silicon Metal from Brazil; Final Results of Antidumping Duty Administrative Review and Revocation of Order in Part, 67 FR 77225 (December 17, 2002) (order revoked as to RIMA).

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: April 27, 2006.
David M. Spooner,
Assistant Secretary for Import Administration.

[FR Doc. E6-6760 Filed 5-3-06; 8:45 am]

BILLING CODE 3510-DS-S